DEPARTMENT OF STATE

[Delegation of Authority No. 236-3]

Delegation by the Under Secretary for Public Diplomacy and Public Affairs of Certain Functions to the Assistant Secretary for Educational and Cultural Affairs or in the Absence Thereof, to the Principal Deputy Assistant Secretary and Deputy Assistant Secretary for Policy and Resources

By virtue of the authority vested in me as the Under Secretary of State for Public Diplomacy and Public Affairs by law, including by Delegation of Authority No. 234 of October 1, 1999, and the Foreign Affairs Reform and Restructuring Act of 1998 (112 Stat. 2681 et seq.), and to the extent permitted by law, I hereby delegate to the Assistant Secretary for Educational and Cultural Affairs:

a. The functions in P.L. 89-259 (79 Stat. 985) (22 U.S.C. 2459) (providing for immunity from judicial seizure for cultural objects imported into the U.S. for temporary exhibits).

b. The functions in sections 101(1)(15)(J) and 212(j) of the Immigration and Nationality Act (8 U.S.C. 1101(a)(15)(J) and 1182(J)), and section 641 of P.L. 104-208 (8 U.S.C. 1372(h)(2)(A)) (relating to the designation of exchange visitor programs and related functions).

c. The functions in the North/South Center Act of 1991 (22 U.S.C. 2075) (relating to the operation of the Center for Cultural and Technical Interchange Between North and South).

d. The functions in the Center for Cultural and Technical Interchange Between East and West Act of 1960 (22 U.S.C. 2054) (relating to the operation of the Center for Cultural and Technical Interchange Between East and West).

e. The functions in Executive Order 12555 of March 10, 1986 (delegating functions under the Convention on Cultural Property Implementation Act (19 U.S.C. 2601)).

f. The functions in the Arts and Artifacts Indemnity Act (20 U.S.C. 971) (relating to the certification of national interest for exhibits to provide indemnification).

g. Representation of the Secretary of State on the Federal Council on the Arts and Humanities (pursuant to 20 U.S.C. 958).

h. Representation of the Secretary of State on the United States Panel of the Joint Committee on United States-Japan Cultural and Educational Cooperation/Japan-United States Friendship Commission (pursuant to 22 U.S.C. 2901; one of two Department of State members).

i. The functions in section 102 of the Mutual Educational and Cultural Exchange Act of 1961, as amended (22 U.S.C. 2452) (relating to the provision by grant, contract or otherwise for a wide variety of educational and cultural exchanges).

Notwithstanding any other provision of this Order, the Under Secretary of State for Public Diplomacy and Public Affairs and Public Affairs may at any time exercise any function or authority delegated or reserved by this delegation of authority.

Functions delegated by this delegation of authority may be redelegated, to the extent consistent with law.

Any reference in this delegation of authority to any statute or delegation of authority shall be deemed to be a reference to such statute or delegation of authority as amended from time to time.

This delegation shall be published in the Federal Register.

Delegation of Authority No. 236-2 is hereby superseded.

Dated: August 28, 2000.
Evelyn S. Lieberman,
Under Secretary for Public Diplomacy and Public Affairs, U.S. Department of State.

[FR Doc. 00-22662 Filed 9-1-00; 8:45 am]

BILLING CODE 4710-08-P